ENVIRONMENTAL PROTECTION AGENCY

[FRL-7655-4; Docket ID No. OAR-2003-0188]

Peer-Review Workshop on EPA's 2003 Interim Final position paper titled “An Evaluation of the Human Carcinogenic Potential of Ethylene Glycol Butyl Ether”

AGENCY: Environmental Protection Agency.

ACTION: Notice of a peer-review workshop and public meeting.

SUMMARY: The U.S. Environmental Protection Agency (EPA) is announcing that Oak Ridge Institute for Science and Education (ORISE)—an EPA contractor for external scientific peer review—will organize, convene, and conduct an expert peer-review workshop to review the Agency's August 2003 Interim Final position paper titled, “An Evaluation of the Human Carcinogenic Potential of Ethylene Glycol Butyl Ether.”

DATES: The peer-review workshop will be held on Wednesday, May 19, 2004, from 8:30 a.m. to 5 p.m.

ADDRESSES: The peer-review workshop will be held in Classroom C-114 of the U.S. Environmental Protection Agency, 109 T.W. Alexander Drive, Research Triangle Park, North Carolina 27709. Logistics and registration for the workshop are being arranged by ORISE, P.O. Box 117, Oak Ridge, TN 37831-0117.

FOR FURTHER INFORMATION CONTACT: The EPA contractor lead, Leslie Shaphard of ORISE, should be contacted at telephone: (865) 241-5784 or by e-mail: ShapardL@orau.gov for details pertaining to the workshop, registration, and logistics. For technical information contact: Jeff Gift, U.S. EPA, NCEA-RTP, B243-01, Research Triangle Park, NC 27711; telephone: 919-541-4828; facsimile: 919-541-0245; or e-mail: gift.jeff@epa.gov.

SUPPLEMENTARY INFORMATION: The August 2003 Interim Final position paper on EGBE was prepared by EPA's National Center for Environmental Assessment (NCEA) in support of EPA's proposed rule to remove EGBE from the Agency's list of Hazardous Air Pollutants (68 FR 65648, November 21, 2003). Public comments on this proposed ruling were due January 20, 2004, and can be viewed at http://www.epa.gov/edocket (Docket ID OAR-2003-0188).¹

¹ To view the docket, select “Advanced Search” and enter OAR-2003-0188 in the “Docket ID” field. Set the “Broad or Narrow Search:” setting to “Match ANY search criteria” and select “Search.”

The purpose of this workshop is to provide for an external panel review by experts capable of evaluating EPA's position paper in light of the recent research and literature that has been submitted to the Agency in response to the proposed ruling. Members of the public are invited to attend the workshop as observers and will be allowed to present brief verbal and/or written comments at the end of the workshop. To attend the workshop, register by May 15, 2004, on the Web site at http://www.orau.gov/egbe. Space is limited, and reservations will be accepted on a first-come, first-served basis. The Interim Final position paper is also available for downloading from this site. EPA will consider comments received at the workshop in preparing the final version of this paper.

The Interim Final position paper on EGBE makes use of draft cancer guidelines and several studies that have been published since the completion in 1999 of the EPA IRIS (Integrated Risk Information System) assessment for ethylene glycol butyl ether, which can be obtained from the IRIS Web site at http://www.epa.gov/IRIS. Upon completion of the peer review of the interim position paper, the Agency plans to revise the existing IRIS assessment to reflect the information and conclusions contained in the finalized position paper.

Dated: April 26, 2004.
Peter W. Preuss,
Director, National Center for Environmental Assessment.

[FR Doc. 04-9870 Filed 4-29-04; 8:45 am]

BILLING CODE 6560-50-P